SMALL BUSINESS ADMINISTRATION

[Disaster Declaration #13239 and #13240]

Ohio Disaster Number OH-00030

AGENCY: U.S. Small Business Administration.

ACTION: Amendment 1.

SUMMARY: This is an amendment of the Presidential declaration of a major disaster for Public Assistance Only for the State of Ohio (FEMA-4077-DR), dated 08/20/2012.

Incident: Severe Storms and Straight-line Winds.

Incident Period: 06/29/2012 through 07/02/2012.

Effective Date: 09/20/2012.

Physical Loan Application Deadline Date: 10/19/2012.

Economic Injury (EIDL) Loan Application Deadline Date: 05/20/2013.

ADDRESSES: Submit completed loan applications to: U.S. Small Business Administration, Processing And Disbursement Center, 14925 Kingsport Road Fort, Worth, TX 76155.

FOR FURTHER INFORMATION CONTACT: A Escobar, Office of Disaster Assistance, U.S. Small Business Administration, 409 3rd Street, SW., Suite 6050, Washington, DC 20416.

SUPPLEMENTARY INFORMATION: The notice of the President's major disaster declaration for private non-profit organizations in the State of Ohio, dated 08/20/2012, is hereby amended to include the following areas as adversely affected by the disaster.

Primary Counties: Vinton; Wyandot.

All other information in the original declaration remains unchanged.

(Catalog of Federal Domestic Assistance Numbers 59002 and 59008)

James E. Rivera,
Associate Administrator for Disaster Assistance.

[FR Doc. 2012-24145 Filed 9-28-12; 8:45 am]

BILLING CODE 8025-01-P